DEPARTMENT OF THE TREASURY

Submission for OMB Review; Comment Request

September 23, 2010.

The Department of Treasury will submit the following public information collection requirements to OMB for review and clearance under the Paperwork Reduction Act of 1995, Public Law 104-13 on or after the publication date of this notice. A copy of the submissions may be obtained by calling the Bureau Information Clearance Officer listed. Comments regarding these information collections should be addressed to the OMB reviewer listed and to the Treasury PRA Clearance Officer, Department of the Treasury, 1750 Pennsylvania Avenue, NW., Suite 11010, Washington, DC 20220.

DATES: Written comments should be received on or before October 29, 2010 to be assured of consideration.

Community Development Financial Institutions (CDFI) Fund

OMB Number: 1559-0031.

Type of Review: Extension of a currently approved information collection.

Title: CDFI/CDE Fund Project Profile Web Form.

Form: CDFI 0030.

Description: The voluntary collection of narrative descriptions of projects financed by CDFI Fund awardees and allocates via the CDFI/CDE Project Profile Web Form. The purpose is to more fully describe and record the innovative approaches (Community Development Financial Institutions) CDFIs and (Community Development Entity) CDEs use in revitalizing communities and serving families, and impact that these CDFIs and CDEs are realizing.

Estimated Total Burden Hours: 250 hours.

OMB Number: 1559-0036

Type of Review: Extension of a currently approved information collection.

Title: Capital Magnet Fund Application.

Form: CDFI 0003.

Description: Under the Capital Magnet Fund (CMF) the Community Development Financial Institutions (CDFI) Fund will provide competitively awarded grants to CDFIs and qualified nonprofit housing organizations to finance affordable housing and related community development projects.

Estimated Total Burden Hours: 1,250 hours.

CDFI Fund Clearance Officer: Ashanti McCallum, Community Development Financial Institutions Fund, Department of the Treasury, 601 13th Street, NW., Suite 200 South, Washington, DC 20005; (202) 622-9018

OMB Reviewer: Shagufta Ahmed, Office of Management and Budget, New Executive Office Building, Room 10235, Washington, DC 20503; (202) 395-7873

Dawn D. Wolfgang,
Treasury PRA Clearance Officer.

[FR Doc. 2010-24394 Filed 9-28-10; 8:45 am]

BILLING CODE 4810-70-P